DEPARTMENT OF THE INTERIOR

National Park Service

[NPS-IMR-LAMR-16172; PX.PD104097E.00.1]

Final Environmental Impact Statement for the General Management Plan, Lake Meredith National Recreation Area, Alibates Flint Quarries National Monument, Texas

AGENCY: National Park Service, Interior.

ACTION: Notice of availability.

SUMMARY: The National Park Service announces the availability of the final environmental impact statement for the general management plan for Lake Meredith National Recreation Area and Alibates Flint Quarries National Monument. The general management plan will guide the management of the park units over the next 15 to 20 years.

DATES: The NPS will execute a record of decision no sooner than 30 days following publication by the Environmental Protection Agency of the notice of availability of the final environmental impact statement for the general management plan in the Federal Register.

ADDRESSES: Electronic copies of the final environmental impact statement and the draft environmental impact statement will be available online at http://parkplanning.nps.gov/LAMR. To request a hard copy, contact Superintendent Robert Maguire, 419 East Broadway, Fritch, Texas, 79036, (806) 857-0300.

FOR FURTHER INFORMATION CONTACT: Chief of Resources Arlene Wimer, P.O. Box 1460, Fritch, Texas, 79036; telephone (806) 857-0309.

SUPPLEMENTARY INFORMATION: We have prepared the final environmental impact statement for the general management plan (FEIS/GMP) and we are publishing this notice pursuant to the National Environmental Policy Act of 1969, 42 U.S.C. 4332(2)(C). The final environmental impact statement for the general management plan (FEIS/GMP) responds to and incorporates agency and public comments received on the draft EIS/plan, which was available for public review from March 29, 2013, through May 28, 2013. Two public meetings were held, one in Amarillo, Texas on April 30, 2013, and the other in Fritch, Texas on May 1, 2013, to gather input on the draft EIS/plan; 27 members of the public attended these meetings. We received approximately 25 comments during the public review period. Few of the comments were substantive and none required more than minor responses such as factual corrections. For this reason we have prepared an abbreviated final EIS that includes our response to comments and an errata sheet. This abbreviated FEIS/GMP and the text of the DEIS/GMP together constitute the Final EIS/GMP.

The FEIS/GMP evaluates three alternatives for managing Lake Meredith NRA and three alternatives for managing Alibates Flint Quarries NM. The NPS-preferred alternative for Lake Meredith NRA would promote both traditional and nontraditional uses, developing facilities and opportunities to address changing lake conditions and visitor uses. The national recreation area would become a destination for semi-primitive outdoor recreation opportunities and would strengthen partnerships to improve visitor experience.

The preferred alternative for Alibates Flint Quarries NM would provide a greater understanding and appreciation for archeological protection through enhanced educational opportunities and research. It also would accommodate a wider range of visitor uses and experiences by zoning part of the national monument for unrestricted visitor access by foot.

The responsible official for this FEIS/GMP is the Regional Director, NPS Intermountain Region, 12795 W Alameda Parkway, Lakewood, Colorado 80228.

Dated: September 11, 2014.
Sue E. Masica,
Regional Director, Intermountain Region, National Park Service.

[FR Doc. 2014-23038 Filed 9-26-14; 8:45 am]

BILLING CODE 4312-CB-P